DEPARTMENT OF ENERGY

Federal Energy Regulatory Commission

[Docket No. EG03-78-000]

Blue Canyon Windpower, LLC; Notice of Filing

June 23, 2003.

Take notice that on June 18, 2003, Blue Canyon Windpower, LLC (Blue Canyon) tendered for filing an application for a determination of exempt wholesale generator status, pursuant to Commission's Regulations 18 CFR 365.

Blue Canyon states that it is a limited liability company that will be engaged directly or indirectly in the business of owning an eligible facility that will sell electric energy at wholesale as defined in the Public Utility Holding Company Act of 1935, Section 2(a)(11)(B).

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Comment Date: July 14, 2003.

Magalie R. Salas,
Secretary.

[FR Doc. 03-16388 Filed 6-27-03; 8:45 am]

BILLING CODE 6717-01-P